FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202) 523-5793 or tradeanalysis@fmc.gov.

Agreement No.: 012059.

Title: CSAV/NYK Venezuela Space Charter Agreement.

Parties: Compania Sud Americana De Vapores S.A. and Nippon Yusen Kaisha.

Filing Party: Michael B. Holt, Vice President and General Counsel; NYK Line; 300 Lighting Way, 5th Floor; Secaucus, NJ 07094.

Synopsis: The agreement authorizes CSAV to charter space to NYK in the trade from Newark, NJ, Baltimore, MD, and Miami, FL, to ports in Venezuela.

By Order of the Federal Maritime Commission.
Dated: December 12, 2008.
Tanga S. Fitzgibbon,
Alternate Federal Register Liaison Officer.

[FR Doc. E8-29945 Filed 12-16-08; 8:45 am]

BILLING CODE 6730-01-P